DEPARTMENT OF HOMELAND SECURITY

Federal Emergency Management Agency

[Docket ID: FEMA-2020-0013; OMB No. 1660-0061]

Agency Information Collection Activities: Submission for OMB Review; Comment Request; Federal Assistance to Individuals and Households Program

AGENCY: Federal Emergency Management Agency, DHS.

ACTION: 30-Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 22, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Brian Thompson, Supervisory Program Specialist, FEMA Recovery Directorate, 540-686-3602.

SUPPLEMENTARY INFORMATION: This proposed information collection previously published in the Federal Register on March 11, 2020 at 85 FR 14212 with a 60-day public comment period. FEMA received three comments from the public.

Comment 1: The commenter suggested that FEMA could minimize the burden for veterans with disabilities by having their patient advocates or service organizations asking if they have any unmet needs. Additionally, the commenter suggested that when a disability hinders someone's ability to understand things and when those serious needs have continued to not be met can deteriorate a service member's mental health dramatically. Finally the commenter stated that when service members need to apply to many different organizations and ask for help only to be advised to contact someone else without help can be very discouraging. Rather, a simple phone call from someone that has access to important information and the ability to help that person can really help. FEMA has initiated interrelated projects to increase the communication of the needs of registrants with disabilities across our programs and better support the needs of survivors with disabilities. Recognizing the need for more effective and actionable disability-related questions in the Registration Intake form (covered in OMB collection 1660-0002, Disaster Assistance Registration), FEMA is in the process of submitting a revision to OMB collection 1660-0002 to add a specific reasonable accommodation question, and an additional question capturing disability-related losses. The reasonable accommodation question will ask registrants to indicate if they have a disability-related need to access FEMA's programs and services. FEMA's Individual Assistance (IA) Program and Office of Equal Rights (OER) are working to develop a written procedure to arrange for any accommodation/modification, and to develop training documents/curricula for all FEMA personnel involved in providing accommodations to disaster survivors. The Federal Register Notice for 1660-0002 which outlines the reasonable accommodation question addition should be posted in the near future for public comment.

The reasonable accommodation question was developed through collaboration between the FEMA Office of Disability Integration and Coordination (ODIC), the FEMA OER, the FEMA IA Program, the FEMA Office of External Affairs, and other relevant offices within FEMA. In addition to these offices, ODIC sought input from the National Council on Disability (NCD) to validate the language included in the question. NCD is an independent Federal agency charged with advising the President, Congress, and other Federal agencies regarding policies, programs, practices, and procedures that affect people with disabilities.

With the addition of the reasonable accommodation question in the registration intake form, FEMA will be better able to identify and assist applicants with completing the forms included in 1660-0061 (request for late application review, submitting appeals, completing the Authorization for the Release of Information form, requesting advance disaster assistance, and stop payment requests).

In addition, the policies regarding how and why FEMA can share applicant information are not in place to make it harder for veterans and others with disabilities to receive the help they need, but to protect them from fraud and identity theft by ensuring only those who have appropriate consent from the applicant can access their information. FEMA generally communicates directly with each applicant throughout the IHP process to gather information, inform them of their eligibility for assistance, refer them to other sources of assistance, and guide them on the proper use of IHP funds.

FEMA also generally communicates directly with each applicant to protect their private information. The Privacy Act of 1974 regulates how FEMA collects, uses, and discloses an applicant's personal information in order to protect the privacy of the applicant, and requires FEMA to obtain written consent from the applicant in order to share their disaster assistance records with a third party. For example, FEMA employees and contractors will always verify an applicant's identity before discussing eligibility or potential assistance. After verifying their identity with FEMA, the applicant can also give verbal permission for FEMA to speak with a third party regarding their case via the FEMA Helpline.

FEMA may share applicant information outside FEMA with entities such as States, territorial, Tribal, and local governments, voluntary organizations, and other organizations in accordance with published routine uses identified in DHS/FEMA-008 Disaster Recovery Assistance Files System of Records Notice. FEMA shares this information to enable the applicant to receive additional disaster assistance, prevent a duplication of benefits, and prevent future disaster losses.

Comment 2: The second comment was not a germane comment.

Comment 3: The commenter suggested that it should be made clear whether the Coronavirus pandemic falls within the bounds of a declared disaster or emergency which justifies provision of FEMA assistance of the type discussed after a disaster or emergency to aid in housing, food sources, medical needs, and other forms of aid provided by FEMA after an earthquake or hurricane, which should also be available to those families and persons needing assistance during the coronavirus emergency. At this time, the only declaration provided for Individual Assistance for COVID-19 is specific to Crisis Counseling. The Individuals and Households Program has not been authorized; therefore, FEMA is not accepting disaster assistance registrations for COVID-19 at this time and is not providing assistance under the Individuals and Households Program.

News Release HQ-20-091 dated April 9, 2020 on FEMA.gov about rent suspension is only in regard to disaster survivors who were already receiving temporary housing from FEMA in FEMA-provided Temporary Housing Units. For further information regarding FEMA's response to COVID-19, please visit https://www.fema.gov/coronavirus.

The purpose of this notice is to notify the public that FEMA will submit the information collection abstracted below to the Office of Management and Budget for review and clearance.

Collection of Information

Title: Federal Assistance to Individuals and Households Program.

Type of information collection: Revision of a currently approved information collection.

OMB Number: 1660-0061.

Form Titles and Numbers: FEMA Form 010-0-11, Individuals and Households Program (IHP)—Other Needs Assistance Administrative Option Selection; Development of State/Tribal Administrative Plan (SAP) for Other Needs Provision of IHP; FEMA Form 010-0-12 (English), Individuals and Households Program Application for Continued Temporary Housing Assistance; FEMA Form 010-0-12S (Spanish), Programa de Individuos y Familias Solicitud Para Continuar La Asistencia de Vivienda Temporera; Request for Approval of Late Registration; Appeal of Program Decision; FEMA Form 009-0-95 (English), Request for Advance Disaster Assistance; FEMA Form 009-0-95S (Spanish), Solicitud de Adelanto de la Asistencia por Desastre; FEMA Form 009-0-96 (English), Request to Stop Payment and Reissue Disaster Assistance Check; FEMA Form 009-0-96S (Spanish), Solicitud para Detener el Pago y Reemitir el Cheque de Asistencia por Desastre; FEMA Form 140-003d-1—(English), Authorization for the Release of Information Under the Privacy Act; FEMA Form 140-003d-1S—(Spanish), Autorización para la Divulgación de Información bajo el Acta de Privacidad.

Abstract: The collection provides applicants the ability to request approval of late applications, request continued temporary housing assistance, appeal program decisions, request advance disaster assistance, request assistance checks not received be stopped and reissued, and to authorize the release of information to third parties. It also establishes an agreement between FEMA and States, territories, and Tribal governments regarding the administration of the Other Needs provision of IHP.

Affected Public: Individuals or Households; State, Local, or Tribal Government.

Estimated Number of Respondents: 140,753.

Estimated Number of Responses: 185,057.

Estimated Total Annual Burden Hours: 150,828.

Estimated Total Annual Respondent Cost: $5,692,939.

Estimated Respondents' Operation and Maintenance Costs: NA.

Estimated Respondents' Capital and Start-Up Costs: NA.

Estimated Total Annual Cost to the Federal Government: $1,089,213.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Office of the Chief Administrative Officer, Mission Support, Federal Emergency Management Agency, Department of Homeland Security.

[FR Doc. 2020-11081 Filed 5-21-20; 8:45 am]

BILLING CODE 9111-23-P